SECURITIES AND EXCHANGE COMMISSION

Submission for OMB Review; Comment Request

Upon Written Request, Copies Available From: Securities and Exchange Commission, Office of Filings and Information Services, Washington, DC 20549

Extension:

Form N-CSR, SEC File No. 270-512, OMB Control No. 3235-0570.

Notice is hereby given that pursuant to the Paperwork Reduction Act of 1995 (44 U.S.C. 3501 et seq.) the Securities and Exchange Commission (“Commission”) has submitted to the Office of Management and Budget (“OMB”) a request for extension of the previously approved collection of information discussed below.

The title for the collection of information is “Form N-CSR (17 CFR 249.331 and 17 CFR 274.128) under the Securities Exchange Act of 1934 (15 U.S.C. 78a et seq.) (“Securities Exchange Act”) and under the Investment Company Act of 1940 (15 U.S.C. 80a-1 et seq.) (“Investment Company Act”), Certified Shareholder Report of Registered Management Investment Companies.” Form N-CSR is a combined reporting form used by management investment companies to file certified shareholder reports under the Investment Company Act and under the Securities Exhange Act. Form N-CSR is to be used for reports under section 30(b)(2) of the Investment Company Act and section 13(a) or 15(d) of the Securities Exchange Act, filed pursuant to rule 30b2-1(a) under the Investment Company Act (17 CFR 270.30b2-1(a)). Form N-CSR reports are to be filed with the Commission not later than 10 days after the transmission to stockholders of any report that is required to be transmitted to stockholders under rule 30e-1 under the Investment Company Act (17 CFR 270.30e-1). The information provided on Form N-CSR may be used by the Commission in its regulatory, disclosure review, inspection, and policymaking roles. The information filed with the Commission also permits the verification of compliance with securities law requirements and assures the public availability and dissemination of the information.

The Commission estimates that there are 7,300 reports filed on Form N-CSR annually and that the average number of portfolios referenced in each filing is 2.5. The Commission further estimates that the hour burden for preparing and filing a report on Form N-CSR is 7.57 hours per portfolio. Given that filings on Form N-CSR are filed semi-annually, filings on Form N-CSR require 15.14 hours per portfolio each year. The total annual hour burden for Form N-CSR, therefore, is estimated to be 138,153 hours.

The information collection requirements imposed by Form N-CSR are mandatory. Responses to the collection of information will not be kept confidential. An agency may not conduct or sponsor, and a person is not required to respond to a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Securities and Exchange Commission, C/O Shirley Martinson, 6432 General Green Way, Alexandria, VA 22312, or send an e-mail to: PRA_Mailbox@sec.gov. Comments must be submitted to OMB within 30 days of this notice.

Dated: June 4, 2007.
Florence E. Harmon,
Deputy Secretary.

[FR Doc. E7-11159 Filed 6-8-07; 8:45 am]

BILLING CODE 8010-01-P